DEPARTMENT OF ENERGY

Fusion Energy Sciences Advisory Committee

AGENCY: Office of Science, Department of Energy (DOE).

ACTION: Notice of an open virtual meeting.

SUMMARY: This notice announces an open virtual meeting of the Fusion Energy Sciences Advisory Committee (FESAC). The Federal Advisory Committee Act requires that public notice of these meetings be announced in the Federal Register.

DATES: Monday, September 30, 2024; 10 a.m.-5 p.m. EDT.

ADDRESSES: This meeting will be held virtually via Zoom. Instructions for Zoom, as well as any updates to meeting times or meeting agenda, can be found on the FESAC meeting website at: https://science.osti.gov/fes/fesac/Meetings.

FOR FURTHER INFORMATION CONTACT: Dr. Samuel J. Barish, Office of Fusion Energy Sciences (FES); U.S. Department of Energy; Office of Science; 1000 Independence Avenue SW, Washington, DC 20585; Telephone: (301) 903-2917, email address: sam.barish@science.doe.gov.

SUPPLEMENTARY INFORMATION:

Purpose of the Committee: The purpose of the Committee is to make recommendations on a continuing basis to the Director, Office of Science of the Department of Energy, on the many complex scientific and technical issues that arise in the development and implementation of the fusion energy sciences program.

Tentative Agenda:

• Office of Science Overview and Update

• Update from the Office of Fusion Energy Sciences

• Update on the Progress and Plans of the FESAC Decadal Plan Subcommittee

• Public Comment

• United States Fusion Science and Technology Roadmap

• Adjourn

Public Participation: The meeting is open to the public. If you would like to file a written statement with the Committee, you may do so either before or after the meeting. If you would like to make an oral statement regarding any of the items on the agenda, you should contact Dr. Barish at sam.barish@science.doe.gov. Reasonable provision will be made to include the scheduled oral statements during the Public Comment time on the agenda. The Chairperson of the Committee will conduct the meeting to facilitate the orderly conduct of business. Public comment will follow the 10-minute rule. If you have any questions or need a reasonable accommodation under the Americans with Disabilities Act for this event, please send your request to Sandy Newton at sandy.newton@science.doe.gov, two weeks but no later than 48 hours, prior to the event. Closed captions will be enabled.

Minutes: The minutes of the meeting will be available for review on the Fusion Energy Sciences Advisory Committee website: https://science.osti.gov/fes/fesac/Meetings.

Signing Authority: This document of the Department of Energy was signed on August 23, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 23, 2024.
Jennifer Hartzell,
Alternate Federal Register Liaison Officer, U.S. Department of Energy.

[FR Doc. 2024-19389 Filed 8-28-24; 8:45 am]

BILLING CODE 6450-01-P